DEPARTMENT OF ENERGY

Federal Energy Regulatory Commission

Combined Notice of Filings #2

Take notice that the Commission received the following electric rate filings:

Docket Numbers: ER10-2718-029; ER10-2719-029.

Applicants: Cogen Technologies Linden Venture, L.P., East Coast Power Linden Holding, L.L.C.

Description: Notice of Non-Material Change in Status of Cogen Technologies Linden Venture, L.P., et al.

Filed Date: 5/23/18.

Accession Number: 20180523-5159.

Comments Due: 5 p.m. ET 6/13/18.

Docket Numbers: ER10-2895-018; ER10-2461-015; ER10-2463-014; ER10-2466-015; ER10-2917-018; ER10-2918-019; ER10-2920-018; ER10-2921-018; ER10-2922-018; ER10-2966-018; ER10-3167-010; ER10-3178-010; ER11-2201-018; ER11-2292-019; ER11-2293-019; ER11-2294-017; ER11-2383-013; ER11-3417-013; ER11-3941-016; ER11-3942-018; ER11-4029-014; ER12-1311-014; ER12-161-018; ER12-2068-014; ER12-2447-017; ER12-645-019; ER12-682-015; ER13-1139-017; ER13-1346-009; ER13-1613-011; ER13-17-012; ER13-203-010; ER13-2143-011; ER14-1964-009; ER14-25-014; ER14-2630-010; ER16-287-004.

Applicants: Alta Wind VIII, LLC, Bear Swamp Power Company LLC, BIF II Safe Harbor Holdings, LLC, BIF III Holtwood LLC, Black Bear Development Holdings, LLC, Black Bear Hydro Partners, LLC, Black Bear SO, LLC, Brookfield Energy Marketing Inc., Brookfield Energy Marketing LP, Brookfield Energy Marketing US LLC, Brookfield Power Piney & Deep Creek LLC, Brookfield Renewable Energy Marketing US LLC, Brookfield Smoky Mountain Hydropower LLC, Brookfield White Pine Hydro LLC, Carr Street Generating Station, L.P., Erie Boulevard Hydropower, L.P., Granite Reliable Power, LLC, Great Lakes Hydro America, LLC, Hawks Nest Hydro LLC, Mesa Wind Power Corporation, Rumford Falls Hydro LLC, Safe Harbor Water Power Corporation, Windstar Energy, LLC, Bishop Hill Energy LLC, Blue Sky East, LLC, California Ridge Wind Energy LLC, Canandaigua Power Partners, LLC, Canandaigua Power Partners II, LLC, Erie Wind, LLC, Evergreen Wind Power, LLC, Evergreen Wind Power III, LLC, Imperial Valley Solar 1, LLC, Niagara Wind Power, LLC, Prairie Breeze Wind Energy LLC, Regulus Solar, LLC, Stetson Holdings, LLC, Stetson Wind II, LLC, Vermont Wind, LLC.

Description: Second Supplement to June 30, 2017 Updated Market Power Analysis for the Northeast Region of the Brookfield Companies.

Filed Date: 5/16/18.

Accession Number: 20180516-5145.

Comments Due: 5 p.m. ET 6/6/18.

Docket Numbers: ER16-120-007.

Applicants: New York Independent System Operator, Inc.

Description: Compliance filing: Compliance with April 2018 Order—RMR Generator Deactivation Process to be effective 7/23/2018.

Filed Date: 5/23/18.

Accession Number: 20180523-5128.

Comments Due: 5 p.m. ET 6/13/18.

Docket Numbers: ER18-1675-000.

Applicants: Goldfinch Capital Management, LP.

Description: Tariff Cancellation: Cancellation to be effective 5/30/2018.

Filed Date: 5/23/18.

Accession Number: 20180523-5079.

Comments Due: 5 p.m. ET 6/13/18.

Docket Numbers: ER18-1676-000.

Applicants: GP Big Island, LLC.

Description: Compliance filing: compliance 2018 May to be effective 5/24/2018.

Filed Date: 5/23/18.

Accession Number: 20180523-5089.

Comments Due: 5 p.m. ET 6/13/18.

Docket Numbers: ER18-1677-000.

Applicants: American Transmission Systems, Incorporation, PJM Interconnection, L.L.C.

Description: § 205(d) Rate Filing: ATSI submits revised IAs SA Nos. 3992 and 3993 to be effective 7/22/2018.

Filed Date: 5/23/18.

Accession Number: 20180523-5102.

Comments Due: 5 p.m. ET 6/13/18.

Docket Numbers: ER18-1678-000.

Applicants: Louisiana Generating LLC.

Description: Request of Louisiana Generating LLC to recover costs associated with acting as a Local Balancing Authority under MISO Tariff.

Filed Date: 5/22/18.

Accession Number: 20180522-5310.

Comments Due: 5 p.m. ET 6/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 23, 2018.
Nathaniel J. Davis, Sr.,
Deputy Secretary.

[FR Doc. 2018-11516 Filed 5-29-18; 8:45 am]

BILLING CODE 6717-01-P